DEPARTMENT OF COMMERCE

Patent and Trademark Office

[Docket No. PTO-C-2019-0029]

Request for Comments on Patenting Artificial Intelligence Inventions

AGENCY: United States Patent and Trademark Office, Department of Commerce.

ACTION: Request for comments; extension of comment period.

SUMMARY: The United States Patent and Trademark Office (USPTO) published a request for comments in the Federal Register on August 27, 2019, seeking public comment on the subject of patenting artificial intelligence inventions. Through this notice, the USPTO is extending the period for public comment until November 8, 2019.

DATES: Written comments must be received on or before November 8, 2019.

ADDRESSES: Written comments should be sent by email to AIPartnership@uspto.gov. Comments may also be submitted by postal mail addressed to the Director of the United States Patent and Trademark Office, P.O. Box 1450, Alexandria VA 22313-1450. Although comments may be submitted by postal mail, the USPTO prefers to receive comments via email. Because written comments will be made available for public inspection, information that a respondent does not desire to be made public, such as a phone number, should not be included in the written comments.

FOR FURTHER INFORMATION CONTACT: Coke Stewart, Senior Policy Advisor, the Office of the Under Secretary and Director of the USPTO, (571) 272-8600.

SUPPLEMENTARY INFORMATION: On August 27, 2019, the United States Patent and Trademark Office published a notice in the Federal Register requesting public input on patent-related issues regarding artificial intelligence inventions for purposes of evaluating whether further examination guidance is needed to promote the reliability and predictability of patenting artificial intelligence inventions. See Request for Comments on Patenting Artificial Intelligence Inventions, 84 FR 44889 (Aug. 27, 2019). The notice requested public comments on or before October 11, 2019. Through this notice, the USPTO is extending the period for public comment until November 8, 2019, to give interested members of the public additional time to submit comments. All other information and instructions to commenters provided in the original notice remain unchanged. Previously submitted comments do not need to be resubmitted.

Andrei Iancu,
Under Secretary of Commerce for Intellectual Property and Director of the United States Patent and Trademark Office.

[FR Doc. 2019-21190 Filed 9-27-19; 8:45 am]

BILLING CODE 3510-16-P